DEPARTMENT OF THE INTERIOR

Bureau of Land Management

[OR-130-1020-PH; GP2-0104]

Meeting Notice of the Eastern Washington Advisory Council; March 21 2002, in Spokane, Washington

AGENCY: Bureau of Land Management, Spokane District.

SUMMARY: The Eastern Washington Resource Advisory Council (EWRAC) is scheduled to meet on March 21, 2002, at the Spokane District Office, Bureau of Land Management, 1103 North Fancher Road, Spokane, Washington, 99212-1275. The meeting will convene at 9 a.m. and adjourn upon conclusion of business, but no later than 4 p.m. Public comments will be heard from 10 a.m. until 10:30 a.m. To accommodate all wishing to make public comments, a time limit may be placed on each speaker. At an appropriate time, the meeting will adjourn for approximately one hour for lunch. Topics to be discussed include: RAC membership update, District Work Accomplishments for FY2001 and Work Program for FY2002, National Fire Plan Update, and future RAC meeting dates. A 15-minute round table discussion will be provided for general issues.

FOR FURTHER INFORMATION CONTACT: Bureau of Land Management, Spokane District Office, 1103 N. Fancher Road, Spokane, Washington, 99212; or call 509-536-1200.

Dated: February 11, 2002.
Joseph K. Buesing,
District Manager.

[FR Doc. 02-5048 Filed 3-1-02; 8:45 am]

BILLING CODE 4310-33-P